INTER-AMERICAN FOUNDATION BOARD MEETING

Sunshine Act Meetings

Time and Date: October 1, 2007. 9 a.m.-1 p.m.

PLACE: 901 N. Stuart Street, Tenth Floor, Arlington, Virginia 22203.

Status: Open to the public except for the portion specified as closed session as provided in 22 CFR part 1004.4(b) and (f).

Matters To Be Considered: • Approval of the Minutes of the January 22, 2007, Meeting of the Board of Directors.

• President's Report.

• Program Update.

• Operations Update.

• External Affairs.

• Congressional Affairs.

• Advisory Council.

Portions To Be Open To The Public: • Approval of the Minutes of the January 22, 2007, Meeting of the Board of Directors.

• President's Report.

• Program Update.

• Operations Update.

• External Affairs.

• Congressional Affairs.

• Advisory Council.

Portions To Be Closed To The Public: • Closed session as provided in 22 CFR part 1004.4(b) and (f).

Dated: September 19, 2007.
Jennifer R. Hodges,
General Counsel, (703) 306-4320.

[FR Doc. 07-4804 Filed 9-25-07; 3:15 pm]

BILLING CODE 7025-01-M